CONSUMER PRODUCT SAFETY COMMISSION

Notice of Availability of a Statement of Policy: Interpretation and Enforcement of Section 103(a) of the Consumer Product Safety Improvement Act

AGENCY: Consumer Product Safety Commission.

ACTION: Notice of Availability.

SUMMARY: The Consumer Product Safety Commission (“Commission”) is announcing the availability of a document titled, “Statement of Policy: Interpretation and Enforcement of Section 103(a) of the Consumer Product Safety Improvement Act” (“Statement of Policy”). Section 103(a) of the Consumer Product Safety Improvement Act (“CPSIA”) requires manufacturers of children's products to mark their products so that certain identifying information is ascertainable by the manufacturer and the consumer. The Statement of Policy clarifies the Commission's interpretation of certain aspects of the statutory requirement and provides guidance on how the Commission intends to enforce the requirement.

ADDRESSES: The Statement of Policy is available from the Commission's Web site at http://www.cpsc.gov/about/cpsia/sect103policy.pdf. Copies also may be obtained from the Consumer Product Safety Commission, Office of the Secretary, Room 502, 4330 East-West Highway, Bethesda, Maryland 20814; 301-504-7923.

FOR FURTHER INFORMATION CONTACT: Anthony Cooke, Office of the General Counsel, Consumer Product Safety Commission, 4330 East West Highway, Bethesda, MD 20814; telephone (301) 504-7628; acooke@cpsc.gov.

SUPPLEMENTARY INFORMATION: On August 14, 2008, the CPSIA (Pub. L. 110-314) was enacted. Section 103 of the CPSIA, titled “Tracking Labels for Children's Products,” requires “distinguishing marks” on all children's products that will enable the manufacturer and the ultimate purchaser to “ascertain” certain source and production information. These requirements become effective August 14, 2009.

The Commission has prepared a document titled, “Statement of Policy: Interpretation and Enforcement of Section 103(a) of the Consumer Product Safety Improvement Act,” which provides guidance on the Commission's interpretation of the tracking label provision and how the Commission intends to enforce the provision. The Statement of Policy is available on the Commission's Web site at http://www.cpsc.gov/about/cpsia/sect103policy.pdf and from the Commission's Office of the Secretary at the location listed in the ADDRESSES section of this notice.

Dated: August 13, 2009.
Todd Stevenson,
Secretary, Consumer Product Safety Commission.

[FR Doc. E9-19816 Filed 8-18-09; 8:45 am]

BILLING CODE 6355-01-P